DEPARTMENT OF ENERGY

Federal Energy Regulatory Commission

[Project No. 4815-009]

Mr. Jesse S. Capel and Mr. Hilton J. Cochran; EWP LLC; Notice of Transfer of Exemption

1. By application filed on July 30, 2012 and supplemented on August 14, 2012, Mr. Jesse S. Capel and Mr. Hilton J. Cochran and EWP LLC informed the Commission that its exemption from licensing for the Eury Dam Project No. 4815, originally issued February 7, 1983,¹ and transferred to EWP LLC by application.² The project is located on the Little River in Montgomery County, North Carolina. The transfer of an exemption does not require Commission approval.

¹ 22 FERC ¶ 62,158, Order Granting Exemption From Licensing of a Small Hydroelectric Project of 5 Megawatts or Less.

² Notice for Transfer of Exemption to Project 4815, filed July 30, 2012 and supplemented on August 14, 2012.

2. EWP LLC, Mr. J. Scott Hale, located at 125 S. Elm Street, Suite 400, Greensboro, NC 27401 is now the exemptee of the Eury Dam Project No. 4815.

Dated: October 18, 2012.
Kimberly D. Bose,
Secretary.

[FR Doc. 2012-26440 Filed 10-26-12; 8:45 am]

BILLING CODE 6717-01-P